DEPARTMENT OF JUSTICE

Office of the Attorney General

28 CFR Part 0

[AG Order No. 3691-2016]

Office for Access to Justice

AGENCY: Department of Justice.

ACTION: Final rule.

SUMMARY: This rule amends the Code of Federal Regulations to reflect the establishment of the Office for Access to Justice as a distinct component of the Department of Justice. The Office for Access to Justice was created by the Attorney General to address the access-to-justice crisis in the criminal and civil justice systems. The office's mission is to help ensure that the justice system is efficient, fair, and accessible to all, irrespective of an individual's wealth and status. This rule sets forth the Office's organization, mission and functions.

DATES: This rule is effective July 1, 2016.

FOR FURTHER INFORMATION CONTACT: Lisa Foster, Director, Office for Access to Justice, U.S. Department of Justice, RFK Main Justice Building, Room 3340, 950 Pennsylvania Avenue NW., Washington, DC 20530. Telephone: (202) 514-5312.

SUPPLEMENTARY INFORMATION:

Background

In 2010, the Attorney General established the Office for Access to Justice to address the access-to-justice crisis in the criminal and civil justice systems. The office's mission is to help ensure that the justice system is efficient, fair, and accessible to all, irrespective of an individual's wealth and status. Its staff works within the Department of Justice, across federal agencies, and with state, local, and tribal justice system stakeholders to increase access to counsel and legal assistance and to improve the justice system for people who are unable to afford lawyers. This rule reflects the establishment of the Office for Access to Justice as a distinct component of the Department of Justice, and sets forth the office's organization, mission, and functions.

Administrative Procedure Act

This rule is a rule of agency organization and procedure, and relates to the internal management of the Department of Justice. It is therefore exempt from the requirements of notice and comment and a delayed effective date. 5 U.S.C. 553(b), (d).

Regulatory Flexibility Act

The Attorney General, in accordance with the Regulatory Flexibility Act (5 U.S.C. 605(b)), has reviewed this rule and by approving it certifies that this rule will not have a significant economic impact on a substantial number of small entities because it pertains to personnel and administrative matters affecting the Department. Further, a Regulatory Flexibility Analysis was not required to be prepared for this final rule since the Department was not required to publish a general notice of proposed rulemaking for this matter. See 5 U.S.C. 604(a).

Executive Orders 12866 and 13563: Regulatory Review

This action has been drafted and reviewed in accordance with Executive Order 12866, “Regulatory Planning and Review,” section 1(b), The Principles of Regulation, and in accordance with Executive Order 13563, “Improving Regulations and Regulatory Review,” section 1(b), General Principles of Regulation. This action is limited to agency organization, management, and personnel matters and therefore is not a “regulation” or “rule” under Executive Order 12866. Id. § 3(d)(3). Accordingly, this action has not been reviewed by the Office of Management and Budget.

Executive Order 13132: Federalism

This rule will not have substantial direct effects on the States, on the relationship between the national government and the States, or on the distribution of power and responsibilities among the various levels of government. Therefore, in accordance with section 6 of Executive Order 13132, it is determined that this rule does not have sufficient federalism implications to warrant the preparation of a federalism summary impact statement.

Executive Order 12988: Civil Justice Reform

This rule meets the applicable standards set forth in sections 3(a) and 3(b)(2) of Executive Order 12988.

Unfunded Mandates Reform Act of 1955

This rule will not result in the expenditure by State, local, and tribal governments, in the aggregate, or by the private sector, of $100,000,000 or more in any one year, and it does not establish requirements that might significantly or uniquely affect small governments. Therefore, no actions were deemed necessary under the provisions of the Unfunded Mandates Reform Act of 1995.

Congressional Review Act

This action pertains to agency management, personnel, and organization and does not substantially affect the rights or obligations of non-agency parties and, accordingly, is not a “rule” as that term is used by the Congressional Review Act (Subtitle E of the Small Business Regulatory Enforcement Fairness Act of 1996 (SBREFA)). See 5 U.S.C. 804(3). Therefore, the reporting requirement of 5 U.S.C. 801 does not apply.

Plain Language Instructions

We try to write clearly. Suggestions about how to improve the clarity of this rule may be submitted in writing to Lisa Foster, Director, Office for Access to Justice.

List of Subjects in 28 CFR Part 0

Authority delegation (Government agencies), Government employees, Organization and functions (Government agencies), Privacy, Reporting and recordkeeping requirements, Whistleblowing.

Accordingly, by virtue of the authority vested in me as Attorney General, including 5 U.S.C. 301 and 28 U.S.C. 509, 510, part 0 of title 28 of the Code of Federal Regulations is amended as follows:

PART 0—ORGANIZATION OF THE DEPARTMENT OF JUSTICE

1. The authority citation for part 0 continues to read as follows:

Authority: 5 U.S.C. 301; 28 U.S.C. 509, 510, 515-519.

2. In § 0.1, under the heading “Offices”, add the title “Office for Access to Justice” to the end of the list.

3. Add Subpart F-1 to read as follows:

Subpart F-1—Office for Access to Justice

§ 0.33 Office for Access to Justice.

The Office for Access to Justice shall be headed by a Director appointed by the Attorney General. The principal responsibilities of the Office shall be to plan, develop, and coordinate the implementation of access to justice policy initiatives of high priority to the Department and the executive branch, including in the areas of criminal indigent defense and civil legal aid. In addition, the Director shall:

(a) Promote uniformity of Department of Justice and government-wide policies and litigation positions relating to equal access to justice;

(b) Examine proposed legislation, proposed rules, and other policy proposals to ensure that access to justice principles are properly considered in the development of policy; and

(c) Perform such other duties and functions as may be authorized by law or directed by the Attorney General, Deputy Attorney General, or Associate Attorney General.

Dated: June 24, 2016.
Loretta E. Lynch,
Attorney General.

[FR Doc. 2016-15574 Filed 6-30-16; 8:45 am]

BILLING CODE 4410-PN-P